DEFENSE NUCLEAR FACILITIES SAFETY BOARD

Sunshine Act Notice

AGENCY: Defense Nuclear Facilities Safety Board.

ACTION: Notice of Public Meeting and Hearing.

SUMMARY: Pursuant to the provisions of the “Government in the Sunshine Act” (5 U.S.C. 552b), and as authorized by 42 U.S.C. 2286b, notice is hereby given of the Defense Nuclear Facilities Safety Board's (Board) public meeting and hearing described below. The Board invites any interested persons or groups to present any comments, technical information, or data concerning safety issues related to the matters to be considered.

TIME AND DATE OF MEETING: Session I: 9:00 a.m.-11:30 p.m.; Session II: 1:00 p.m.-4:30 p.m., August 27, 2014.

PLACE: Defense Nuclear Facilities Safety Board, 625 Indiana Avenue NW., Suite 352, Washington, DC 20004-2901.

STATUS: Open. While the Government in the Sunshine Act does not require that the scheduled discussion be conducted in an open meeting, the Board has determined that an open meeting in this specific case furthers the public interests underlying both the Government in the Sunshine Act and the Board's enabling legislation.

MATTERS TO BE CONSIDERED: This public meeting and hearing is the second in a series of three hearings the Board will convene to address safety culture at Department of Energy defense nuclear facilities and the Board's Recommendation 2011-1, Safety Culture at the Waste Treatment and Immobilization Plant. The third hearing will be announced by a separate notice at a future date. In the first hearing, convened on May 28, 2014, the Board received testimony from recognized industry and federal government experts in the field of safety culture, with a focus on the tools used for assessing safety culture, approaches for interpreting the assessment results, and how results can be used for improving safety culture. This second hearing will also address important safety culture topics and will occur in two sessions. In the morning session, the Board will hear from a panel of current and former United States Navy officers concerning the Navy's approach to ensuring the safety of its nuclear fleet operations. The two panelists, the current Commander of the Naval Safety Center and the former Chief Engineer and Deputy Commander for Naval Systems Engineering, will focus discussions on Navy safety policies and procedures. They will also provide testimony on the tools, metrics and practices used to sustain a strong safety culture, and safety culture lessons learned. In the afternoon session, the Board will receive testimony from a panel of government and academic subject matter experts concerning the role of organizational leaders in establishing and maintaining an effective, positive safety culture. The afternoon panel will be comprised of a Member of the United States Chemical Safety and Hazard Investigation Board, and experts from Johns Hopkins University and the University of Southern California.

CONTACT PERSON FOR MORE INFORMATION: Mark Welch, General Manager, Defense Nuclear Facilities Safety Board, 625 Indiana Avenue NW., Suite 700, Washington, DC 20004-2901, (800) 788-4016. This is a toll-free number.

SUPPLEMENTARY INFORMATION: Public participation in the hearing is invited. The Board is setting aside time at the end of the hearing for presentations and comments from the public. Requests to speak may be submitted in writing or by telephone. The Board asks that commenters describe the nature and scope of their oral presentations. Those who contact the Board prior to close of business on August 22, 2014, will be scheduled to speak at the conclusion of the hearing, at approximately 4:00 p.m. At the beginning of the hearing, the Board will post a schedule for speakers at the entrance to the hearing room. Commenters may also sign up to speak the day of the hearing at the entrance to the hearing room. Anyone who wishes to comment or provide technical information or data may do so in writing, either in lieu of, or in addition to, making an oral presentation. The Board Members may question presenters to the extent deemed appropriate. Documents will be accepted at the hearing or may be sent to the Board's Washington, DC office. The Board will hold the record open until September 27, 2014, for the receipt of additional materials. The hearing will be presented live through Internet video streaming. A link to the presentation will be available on the Board's Web site (www.dnfsb.gov). A transcript of the hearing, along with a DVD video recording, will be made available by the Board for inspection and viewing by the public at the Board's Washington office and at DOE's public reading room at the DOE Federal Building, 1000 Independence Avenue SW, Washington, DC 20585. The Board specifically reserves its right to further schedule and otherwise regulate the course of the meeting and hearing, to recess, reconvene, postpone, or adjourn the meeting and hearing, conduct further reviews, and otherwise exercise its power under the Atomic Energy Act of 1954, as amended.

Dated: August 12, 2014.
Peter S. Winokur,
Chairman.

[FR Doc. 2014-19430 Filed 8-12-14; 4:15 pm]

BILLING CODE 3670-01-P